MERIT SYSTEMS PROTECTION BOARD

Membership of the Merit Systems Protection Board's Senior Executive Service; Performance Review Board

AGENCY: Merit Systems Protection Board.

ACTION: Notice.

SUMMARY: Notice is hereby given of the members of the Performance Review Board.

DATES: October 2, 2007.

FOR FURTHER INFORMATION CONTACT: Marion Hines, Human Resources Director, Office of Finance and Administrative Management, Merit Systems Protection Board, 1615 M Street, NW., Washington, DC 20419.

SUPPLEMENTARY INFORMATION: The Merit Systems Protection Board is publishing the names of the new and current members of the Performance Review Board (PRB) as required by 5 U.S.C. 4314(c)(4). Deborah Miron will continue to serve as Chair of the PRB. B. Chad Bungard will serve as a new member. An-Ming “Tommy” Hwang and Gail T. Lovelace, General Services Administration, will continue to serve as members.

Dated: September 25, 2007.
Matthew D. Shannon,
Acting Clerk of the Board.

[FR Doc. E7-19347 Filed 10-1-07; 8:45 am]

BILLING CODE 7401-01-P